FEDERAL PERMITTING IMPROVEMENT STEERING COUNCIL

Agency Information Collection Activities: Emergency Request for Temporary Reinstatement

AGENCY: Federal Permitting Improvement Steering Council.

ACTION: Notice of emergency request.

SUMMARY: The Federal Permitting Improvement Steering Council (Permitting Council) Executive Director seeks emergency clearance from the Office of Management and Budget (OMB) to reinstate an expired collection of information while it pursues the normal clearance process. Emergency clearance is necessary to continue the listing of covered projects and implement Chapter 41 of the Fixing America's Surface Transportation Act (FAST-41). The Permitting Council publishes this notice in accordance with 5 CFR 1320.13 and seeks the collection of information in accordance with 42 U.S.C. 4370m-2(a)(1).

DATES: In accordance with 5 CFR 1320.13(b), the Permitting Council is requesting approval or disapproval from OMB by close of business, November 28, 2025.

FOR FURTHER INFORMATION CONTACT: Anderson Tran at anderson.tran@permitting.gov, or (202) 748-3727.

SUPPLEMENTARY INFORMATION:

Background: Established in 2015 by Title 41 of the Fixing America's Surface Transportation Act (FAST-41), 42 U.S.C. 4370m et seq., the Permitting Council is a unique Federal agency charged with improving the transparency and predictability of the Federal environmental review and authorization process for certain infrastructure projects. The Permitting Council is comprised of the Permitting Council Executive Director, who serves as the Council Chair; 13 Federal agency Council members (including deputy secretary-level designees of the Secretaries of Agriculture, Army, Commerce, Interior, Energy, Transportation, Defense, Homeland Security, and Housing and Urban Development, the Administrator of the Environmental Protection Agency, and the Chairs of the Federal Energy Regulatory Commission, Nuclear Regulatory Commission, and the Advisory Council on Historic Preservation); and the Chair of the Council on Environmental Quality and the Director of the OMB. 42 U.S.C. 4370m-1(a) & (b).

The Permitting Council coordinates Federal environmental reviews and authorizations for projects that seek and qualify for FAST-41 coverage. FAST-41 covered projects are entitled to comprehensive permitting timetables and transparent, collaborative management of those timetables on the Federal Permitting Dashboard in compliance with FAST-41 procedural requirements. 42 U.S.C. 4370m-2(c) & (d). Sponsors of FAST-41 covered projects also benefit from the direct engagement of the Permitting Council Executive Director and the Permitting Council members in timely identification and resolution of permitting issues that affect covered projects' permitting timetables.

FIN Collection: FAST-41 is a voluntary program for project sponsors to have additional support through the environmental review and permitting process. The first step to becoming a covered project under FAST-41 is to submit a FAST-41 Initiation Notice (FIN), required by 42 U.S.C. 4370m-2(a)(1). The FIN is required to include the purpose of the project, a brief description, statements of technical and financial feasibility, a statement of anticipated federal financing, reviews, and authorizations, and an assessment of whether the project meets the statutory definition of a “covered project” under FAST-41. 42 U.S.C. 4370m-2(a)(1)(C).

The FIN is a collection of information necessary for the administration of FAST-41. Such a collection of information is required to have approval under the Paperwork Reduction Act. Approval for the FIN was originally provided to the General Services Administration (GSA) in 2018 under OMB control number 3090-0316 and was transferred to the Permitting Council in 2020 and became OMB control number 3121-0001. The approval subsequently expired on January 31, 2021. The Permitting Council now seeks to properly reinstate approval for the FIN collection of information; however, to allow for continued agency operations and to avoid harm to the public, the Permitting Council is seeking a temporary approval for the collection of information in accordance with 5 CFR 1320.13 while it pursues the normal approval process.

Authority: 44 U.S.C. 3501 et seq.; 5 CFR 1320.13; 42 U.S.C. 4370m-2(a)(1).

Dated: November 28, 2025.
Emily Domenech,
Executive Director, Federal Permitting Improvement Steering Council.

[FR Doc. 2025-22197 Filed 12-5-25; 8:45 am]

BILLING CODE 6820-PL-P